OFFICE OF MANAGEMENT AND BUDGET

Final Report of the Small Business Paperwork Relief Task Force

AGENCY: Office of Management and Budget, Executive Office of the President.

ACTION: Notice.

Authority: The Small Business Paperwork Relief Act (44 U.S.C. 3520).

SUMMARY: The Office of Management is publishing the Final Report of the Small Business Paperwork Relief Task Force. The Small Business Paperwork Relief Task Force recommends options regarding the improvement of the electronic dissemination of information collected under Federal requirements and identifies a plan to develop an interactive Government-wide Internet program to identify applicable collections and facilitate compliance. A Draft Report was released for public comment May 5, 2003 and the response to comments is included in Appendix 7 of the Final Report.

The Final Report of the Small Business Paperwork Relief Task Force is posted on OMB's Web site, http://www.whitehouse.gov/omb/inforeg/sbpr2004.pdf, and on the Small Business Administration's Web site for business laws, http://www.businesslaw.gov.

FOR FURTHER INFORMATION CONTACT: Jack Koller, Office of E-Government and Information Technology, Office of Management and Budget, e-mail: jkoller@omb.eop.gov, Telephone: (202) 395-4599.

SUPPLEMENTARY INFORMATION: Under the SBPRA (44 U.S.C. 3520) Congress directed the Director of OMB to convene a Task Force to study the feasibility of streamlining requirements with respect to small business concerns regarding collection of information and strengthening dissemination of information (44 U.S.C. 3520, Pub. L. 107-198). More specifically, this Task Force is charged with examining five tasks designed to reduce the information collection burden placed by government on small businesses. These tasks are as follows:

1. Examine the feasibility and desirability of requiring the consolidation of information collection requirements within and across Federal agencies and programs, and identify ways of doing so.

2. Examine the feasibility and benefits to small businesses of having OMB publish a list of data collections organized in a manner by which they can more easily identify requirements with which they are expected to comply.

3. Examine the savings and develop recommendations for implementing electronic submissions of information to the Federal government with immediate feedback to the submitter.

4. Make recommendations to improve the electronic dissemination of information collected under Federal requirements.

5. Recommend a plan to develop an interactive Government-wide Internet program to identify applicable collections and facilitate compliance.

While carrying out its work, the Task Force is to consider opportunities for the coordination of Federal and State reporting requirements, and coordination among individuals who have been designated as the small business “point of contact” for their agencies.

This report, which addresses the final two issues, is required no later than two years after enactment, or June 28, 2004. Both reports must be submitted to the Director of OMB, the Small Business and Agriculture Regulatory Enforcement Ombudsman, and the Senate Committees on Governmental Affairs and Small Business and Entrepreneurship, and the House Committees on Government Reform and Small Business.

The Director of OMB appointed Dr. John D. Graham, Administrator of the Office of Information and Regulatory Affairs, and Ms. Karen S. Evans, Administrator for E-Government and Information Technology, to co-chair the Task Force.

The Act specifies the following agencies to be represented on the SBPRA Task Force: Department of Labor (including the Bureau of Labor Statistics, and the Occupational Safety and Health Administration); Environmental Protection Agency; Department of Transportation; Office of Advocacy of the Small Business Administration; Internal Revenue Service; Department of Health and Human Services (including the Centers for Medicare and Medicaid Services); Department of Agriculture; Department of Interior; the General Services Administration; and two other participants to be selected by the Director of OMB (who are the Department of Commerce and additional representatives from the Small Business Administration).

The Small Business Paperwork Relief Task Force solicited public comments on the Draft Report from May 5, 2003 to June 4, 2003. All comments received by OMB were considered and resulted in modifications to the final report. A summary of the public comments with responses of the Task Force is attached in Appendix 7 of the Final Report.

John D. Graham,
Administrator, Office of Information and Regulatory Affairs.
Karen S. Evans,
Administrator, E-Government and Information Technology.

[FR Doc. 04-14658 Filed 6-25-04; 8:45 am]

BILLING CODE 3110-01-P